DEPARTMENT OF JUSTICE

Notice of Lodging of Consent Decree Pursuant to the Clean Water Act, 33 U.S.C. et seq.

In accordance with Departmental policy, 28 CFR 50.7, notice is hereby given that a proposed consent decree in United States and State of Ohio v. City of Toledo, Ohio, Civil Action No. 3:91:CV7646, was lodged on August 28, 2002, with the United States District Court for the Northern District of Ohio, Western Division.

In this action, the United States sought injunctive relief and civil penalties arising from violations of Section 301(a) of the Clean Water Act, 33 U.S.C. 1311(a). Under the proposed Consent Decree, the City of Toledo, Ohio (the “City”) will (1) construct improvements to end its practice of discharging raw sewage from its treatment plant; (2) build an expanded and enhanced primary treatment system; (3) take additional steps to assure that flows from the plant will receive full biological treatment; (4) prepare a long term control plan to address the City's combined sewer overflows for approval by the United States Environment Protection Agency (“EPA”) and the Ohio Environmental Protection Agency (“Ohio EPA”), and construct all improvements set forth in the approved plan; (5) take specific steps to eliminate discharges from separated sanitary portions of the City's sewer system; (6) pay $500,000 in civil penalties—$425,000 to the United States and $75,000 to the State of Ohio; and (7) undertake two supplemental environmental projects, valued at $1 million—to reconstruct wetlands for public use and to clean up a brownfields site, both located within the City of Toledo.

The Department of Justice will receive, for a period of thirty (30) days from the date of this publication, comments relating to the proposed consent decree. Comments should be addressed to the Assistant Attorney General for the Environment and Natural Resources Division, Department of Justice, P.O. Box 7611, Ben Franklin Station, Washington, DC 20044-7611, and should refer to United States and State of Ohio v. City of Toledo, Ohio, DOJ Ref. No. 90-5-1-1-3554.

The proposed consent decree may be examined at the office of the United States Attorney, Four Seagate, Suite 308, Toledo, Ohio 43604; the Region 5 Office of the U.S. Environmental Protection Agency, 77 West Jackson Blvd., Chicago, Illinois 60604-3590. A copy of the proposed consent decree may also be obtained by request addressed to the Department of Justice Consent Decree Library, P.O. Box 7611, U.S. Department of Justice, Washington, DC 20044-7611. In requesting a copy please refer to the referenced case and enclose a check (25 cents per page reproduction costs) in the amount of $21.00 for the consent decree (84 pages), payable to the Consent Decree Library.

William D. Brighton,
Assistant Chief, Environmental Enforcement Section, Environment and Natural Resources Division.

[FR Doc. 02-23702 Filed 9-17-02; 8:45 am]

BILLING CODE 4410-15-M